DEPARTMENT OF COMMERCE

International Trade Administration

[A-533-838]

Carbazole Violet Pigment 23 from India: Final Results of Antidumping Duty Administrative Review; 2015-2016

AGENCY: Enforcement and Compliance, International Trade Administration, Department of Commerce.

SUMMARY: The Department of Commerce (Commerce) determines that Pidilite Industries Limited (Pidilite), a producer/exporter of carbazole violet pigment 23 (CVP 23) from India, sold subject merchandise at prices below normal value (NV) during the period of review (POR) December 1, 2015, through November 30, 2016.

DATES: Applicable April 12, 2018.

FOR FURTHER INFORMATION CONTACT: Irene Gorelik or George Ayache, AD/CVD Operations, Office VIII, Enforcement and Compliance, International Trade Administration, U.S. Department of Commerce, 1401 Constitution Avenue NW, Washington, DC 20230; telephone (202) 482-6905 or (202) 482-2623, respectively.

SUPPLEMENTARY INFORMATION:

Background

On December 4, 2017, Commerce published the Preliminary Results of the administrative review of the antidumping duty order on CVP 23 from India.¹ Commerce exercised its discretion to toll all deadlines affected by the closure of the Federal Government from January 20 through January 22, 2018. As a result, the revised deadline for the final results of this review is now April 6, 2018.²

¹ See Carbazole Violet Pigment 23 from India: Preliminary Results of Antidumping Duty Administrative Review; 2015-2016, 82 FR 57205 (December 4, 2017) (Preliminary Results) and accompanying Preliminary Decision Memorandum.

² See Memorandum, “Deadlines Affected by the Shutdown of the Federal Government,” dated January 23, 2018. All deadlines in this segment of the proceeding have been extended by three days.

Scope of the Order

The merchandise subject to the Order ³ is CVP-23 identified as Color Index No. 51319 and Chemical Abstract No. 6358-30-1, with the chemical name of diindolo [3,2-b:3′,2′-m] ⁴ triphenodioxazine, 8,18-dichloro-5, 15-diethy-5, 15-dihydro-, and molecular formula of C34 H22 Cl2 N4 O2. The subject merchandise includes the crude pigment in any form (e.g., dry powder, paste, wet cake) and finished pigment in the form of presscake and dry color. Pigment dispersions in any form (e.g., pigments dispersed in oleoresins, flammable solvents, water) are not included within the scope of the Order.

³ See Notice of Amended Final Determination of Sales at Less Than Fair Value and Antidumping Duty Order: Carbazole Violet Pigment 23 from India, 69 FR 77988 (December 29, 2004) (Order).

⁴ The bracketed section of the product description, [3,2-b:3′,2′-m], is not business proprietary information. In this case, the brackets are simply part of the chemical nomenclature. See “Amendment to Petition for Antidumping Investigations of China and India and a Countervailing Duty Investigation of India on Imports of Carbazole Violet Pigment 23 in the forms of Crude Pigment, Presscake and Dry Color Pigment,” dated December 3, 2003, at 8.

The merchandise subject to the Order is classifiable under subheading 3204.17.9040 of the Harmonized Tariff Schedule of the United States (HTSUS). Although the HTSUS subheading is provided for convenience and customs purposes, our written description of the scope of the Order is dispositive.

Analysis of Comments Recieved

All issues raised in the case and rebuttal briefs by parties to this administrative review are addressed in the Issues and Decision Memorandum.⁵ A list of the issues that parties raised and to which we responded is attached to this notice as an Appendix. The Issues and Decision Memorandum is a public document and is on file electronically via Enforcement and Compliance's Antidumping and Countervailing Duty Centralized Electronic Service System (ACCESS). ACCESS is available to registered users at http://access.trade.gov, and is available to all parties in the Central Records Unit, room B8024 of the main Department of Commerce building. In addition, a complete version of the Issues and Decision Memorandum can be accessed directly at http://enforcement.trade.gov/frn/. The signed and electronic versions of the Issues and Decision Memorandum are identical in content.

⁵ See Memorandum, “Carbazole Violet Pigment 23 from India: Issues and Decision Memorandum for the Final Results of the Antidumping Duty Administrative Review; 2015-2016,” dated concurrently with this determination and hereby adopted by this notice (Issues and Decision Memorandum).

Changes Since the Preliminary Results

Based on a review of the record and comments received from interested parties, we have not made changes to the Preliminary Results.⁶ Because Pidilite withheld requested information, failed to provide information in a timely manner and in the form requested, and significantly impeded this proceeding, we continue to find that Pidilite failed to cooperate to the best of its ability and, accordingly, find it appropriate to assign it a margin based on adverse facts available (AFA) in accordance with sections 776(a)(1) and (a)(2)(A), (B), (C) and 776(b) of the Tariff Act of 1930, as amended. For further discussion, see the Issues and Decision Memorandum.

⁶ See Preliminary Results and accompanying Preliminary Decision Memorandum.

Adjustment for Export Subsidies

For Pidilite, in the original investigation, we subtracted the portion of the countervailing duty rate attributable to export subsidies (17.02 percent) from the final dumping margin of 66.59 percent in order to calculate the cash-deposit rate of 49.57 percent.⁷ Since the publication of the Antidumping Duty Order, we have not conducted an administrative review of the countervailing duty order on CVP 23 from India.⁸ Therefore, imports of the subject merchandise from Pidilite during the review period were subject to countervailing duties for export subsidies of 17.02 percent. Accordingly, we have adjusted the dumping margin in accordance with section 772(c)(1)(C) of the Act.

⁷ See Order.

⁸ See Carbazole Violet Pigment 23 from India: Rescission of Countervailing Duty Administrative Review; 2015, 82 FR 42648 (September 11, 2017).

Final Results of the Review

Commerce determines that, for the period of December 1, 2015, through November 30, 2016, the following dumping margin exists:

Exporter/producer | Dumping margin (percent) | Rate adjusted for export subsidies (percent)
Pidilite Industries Limited | 66.59 | 49.57

Assessment Rates

Commerce shall determine, and U.S. Customs and Border Protection (CBP) shall assess, antidumping duties on all appropriate entries of subject merchandise in accordance with the final results of this review.⁹ For entries of the subject merchandise from Pidilite, we will instruct CBP to assess antidumping duties at the adjusted rate of 49.57 percent.

⁹ See section 751(a)(2)(C) of the Act and 19 CFR 351.212(b).

We intend to issue instructions to CBP 15 days after the date of publication of the final results of this review.

Cash Deposit Requirements

The following deposit requirements will be effective upon publication of the notice of the final results of this administrative review for all shipments of the subject merchandise entered, or withdrawn from warehouse, for consumption on or after the publication date of the final results, as provided by section 751(a)(2)(C) of the Act: (1) The cash deposit rate for Pidilite will be the rate established in the final results of this review; (2) for previously reviewed or investigated companies not participating in this review, the cash deposit rate will continue to be the company-specific rate published for the most recently-completed segment of this proceeding in which the company was reviewed; (3) if the exporter is not a firm covered in this review, a prior review, or the less-than-fair value (LTFV) investigation, but the manufacturer is, the cash deposit rate will be the rate established for the most recently-completed segment of this proceeding for the manufacturer of subject merchandise; and (4) the cash deposit rate for all other manufacturers or exporters will continue to be 27.48 percent, the all-others rate established in the LTFV investigation.¹⁰ These cash deposit requirements, when imposed, shall remain in effect until further notice.

¹⁰ See Order.

Notification to Importers

This notice serves as a final reminder to importers of their responsibility under 19 CFR 351.402(f)(2) to file a certificate regarding the reimbursement of antidumping duties prior to liquidation of the relevant entries during this POR. Failure to comply with this requirement could result in the Secretary's presumption that reimbursement of antidumping duties occurred and the subsequent assessment of doubled antidumping duties.

Administrative Protective Order

In accordance with 19 CFR 351.305(a)(3), this notice also serves as a reminder to parties subject to administrative protective order (APO) of their responsibility concerning the return or destruction of proprietary information disclosed under the APO, which continues to govern business proprietary information in this segment of the proceeding. Timely written notification of the return or destruction of APO materials or conversion to judicial protective order is hereby requested. Failure to comply with the regulations and terms of an APO is a violation subject to sanction.

We are issuing and publishing this notice in accordance with sections 751(a)(1) and 777(i)(1) of the Act, and 19 CFR 351.213(h).

Dated: April 6, 2018.
Gary Taverman,
Deputy Assistant Secretary for Antidumping and Countervailing Duty Operations, performing the non-exclusive functions and duties of the Assistant Secretary for Enforcement and Compliance.

Appendix—List of Topics Discussed in the Issues and Decision Memorandum

I. Summary

II. Background

III. Affiliation

IV. Use of Facts Otherwise Available With Adverse Inferences

V. Analysis of Comments

Comment 1: Whether Pidilite and Its U.S. Customer Are Affiliated

Comment 2: Whether To Continue To Apply AFA to Pidilite for the Final Results

VI. Conclusion

[FR Doc. 2018-07616 Filed 4-11-18; 8:45 am]

BILLING CODE 3510-DS-P